DEPARTMENT OF AGRICULTURE

Submission for OMB Review; Comment Request

September 29, 2005

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Research Service

Title: USDA Biological Shipment Record “ Beneficial Organisms.

OMB Control Number: 0518-0013.

Summary of Collection: The Biological Control Documentation Program records the importation and release of foreign biological control agents. Provision of the data is entirely voluntary and is used to populate the USDA “Release of Beneficial Organisms in the United States and Territories” (ROBO) database.

Need and Use of the Information: The Agricultural Research Service will collect information using forms AD-941, 942 and 943, on the biological/control and taxonomic research program by recording the introduction and release of non-indigenous biological control organisms in the pollinators in the United States. If information were not collected there would be no systematic method for the collection of such information.

Description of Respondents: Federal Government; Not-for-profit institutions; State, local or tribal government.

Number of Respondents: 40.

Frequency of Responses: Reporting: On occasion; Annually.

Total Burden Hours: 10.

Ruth Brown,
Departmental Information Collection Clearance Officer.

[FR Doc. 05-19821 Filed 10-3-05; 8:45 am]

BILLING CODE 3410-03-P